DEPARTMENT OF HEALTH AND HUMAN SERVICES

Substance Abuse and Mental Health Services Administration

Advisory Committee for Women's Services; Notice of Meeting

Pursuant to Public Law 92-463, notice is hereby given of a meeting of the Substance Abuse and Mental Health Services Administration (SAMHSA) Advisory Committee for Women's Services on May 11-12, 2009.

The meeting is open and will include remarks by SAMHSA's Acting Administrator and Acting Associate Administrator for Women's Services. The meeting will also include a panel presentation and discussion on Advancing Behavioral Health of Women and Girls in the Health Care Reform Environment, a roundtable discussion with SAMHSA's Centers' Directors, as well as updates on the Indigenous Communities' Trauma Informed Care Work Group and on the Expert Panel Workgroup Meeting for Developing Core Competencies for Working with Women and Girls in Behavioral Health.

Attendance by the public will be limited to the space available. Public comments are welcome. Please communicate with the Committee's Designated Federal Official, Ms. Nevine Gahed (see contact information below) to make arrangements to comment or to request special accommodations for persons with disabilities.

Substantive program information, a summary of the meeting, and a roster of Committee members may be obtained either by accessing the SAMHSA Committees' Web site at https://nac.samhsa.gov/WomenServices/index.aspx as soon as possible after the meeting, or by contacting Ms. Gahed. The transcript for the meeting will also be available on the SAMHSA Committees' Web site within three weeks after the meeting.

Committee Name: Advisory Committee for Women's Services.

Date/Time/Type: Monday, May 11, 2009, from 9 a.m. to 4:30 p.m.: Open. Tuesday, May 12, 2009, from 9 a.m. to 11:30 a.m.: Open.

Place: 1 Choke Cherry Road, Seneca Conference Room, Rockville, Maryland 20857.

Contact: Nevine Gahed, Designated Federal Official, SAMHSA Advisory Committee for Women's Services, 1 Choke Cherry Road, Room 8-1112, Rockville, Maryland 20857. Telephone: (240) 276-2331; Fax: (240) 276-2220 and E-mail: nevine.gahed@samhsa.hhs.gov.

Toian Vaughn,
Committee Management Officer, Substance Abuse and Mental Health Services Administration.

[FR Doc. E9-8096 Filed 4-8-09; 8:45 am]

BILLING CODE 4162-20-P